NATIONAL CREDIT UNION ADMINISTRATION

12 CFR Parts 701 and 705

RIN 3133-AC98

Agency Information Collection Activities: Request for Office of Management and Budget Approval of the Low-Income Definition

AGENCY: National Credit Union Administration (NCUA).

ACTION: Notice of regulatory review; request for comments.

SUMMARY: NCUA is submitting the following information collection to the Office of Management and Budget (OMB) for review and clearance under the Paperwork Reduction Act of 1995, Pub. L. 104-13, 44 U.S.C. Chapter 35. The information collection is published to obtain comments from the public.

DATES: Comment must be received on or before January 26, 2009

ADDRESSES: You may submit comments to NCUA by any of the following methods (Please send comments by one method only):

• Federal eRulemaking Portal: http://www.regulations.gov. Follow the instructions for submitting comments.

• NCUA Web Site: http://www.ncua.gov/news/proposed_regs/proposed_regs.html. Follow the instructions for submitting comments.

• E-mail: Address to regcomments@ncua.gov. Include “[Your name] Comments on Paperwork Reduction Act Notice—Parts 701 and 705” in the e-mail subject line.

• Fax: (703) 518-6319. Use the subject line described above for e-mail.

• Mail: Jeryl Fish, Paperwork Clearance Officer, National Credit Union Administration, 1775 Duke Street, Alexandria, VA 22314-3428.

• Hand Delivery/Courier: Same as mail address.

Additionally, submit a copy of your comments to the Office of Information and Regulatory Affairs to the attention of Mr. Nick Frazier, Office of Management and Budget, New Executive Office Building, Room 10236, Washington DC 20503, telephone: (202) 395-5887.

Public inspection: NCUA will post comments on its Web site at http://www.ncua.gov/RegulationsOpinionsLaws/Comments/Index.htm as submitted, except as may not be possible for technical reasons. Public comments will not be edited to remove any identifying or contact information. Paper copies of comments may be inspected in NCUA's law library, at 1775 Duke Street, Alexandria, Virginia 22314, by appointment weekdays between 9 a.m. and 3 p.m. To make an appointment, call (703) 518-6540 or send an e-mail to OGCmail@ncua.gov.

FOR FURTHER INFORMATION CONTACT: Moisette Green, Staff Attorney, Office of General Counsel, National Credit Union Administration, 1775 Duke Street, Alexandria, Virginia 22314-3428, or telephone: (703) 518-6540.

SUPPLEMENTARY INFORMATION: In accordance with the Paperwork Reduction Act of 1995, 44 U.S.C. 3501 et seq., (PRA), NCUA may not conduct or sponsor, and an organization is not required to respond to, a collection of information unless it displays a currently valid Office of Management and Budget (OMB) control number. NCUA has submitted the information collection requirements contained § 701.34 of its recent final rule regarding the low-income credit union (LICU) definition, published in today's Federal Register, to OMB for review and approval under section 3507 of the PRA and § 1320.11 of OMB's implementing regulations. 5 CFR 1320.11. Under the final rule, FCUs that receive notification that they qualify for a LICU designation and wish to receive it must notify the regional director in writing.

The second portion of the collection is strictly voluntary and depends on an FCU's desire to demonstrate it meets the criteria to receive a LICU designation. Specifically, FCUs that do not receive a LICU designation may provide information to the regional director to demonstrate they meet the criteria. An FCU may be able to demonstrate the actual income of its members based on data it has, for example, from loan applications or surveys of its members. As a practical matter, the Board thinks few FCUs will need this option because NCUA's approach of matching member residential information with Census Bureau income information will provide an estimate very close to members' actual income.

Comments are invited on:

(a) Whether the collection of information is necessary for the proper performance of NCUA's functions, including whether the information has practical utility;

(b) The accuracy of the estimates of the burden of the information collection, including the validity of the methodology and assumptions used;

(c) Ways to enhance the quality, utility, and clarity of the information to be collected;

(d) Ways to minimize the burden of the information collection on respondents, including through the use of automated collection techniques or other forms of information technology; and

(e) Estimates of capital or start up costs and costs of operation, maintenance, and purchase of services to provide information.

Proposal for the following collection of information:

Title: The Low-Income Definition.

OMB Number: None.

Form Number: None.

Type of Review: Approval of a new collection.

Description: (1) FCUs that receive notification that they qualify for a LICU designation and wish to receive it must notify the regional director in writing. (2) FCUs that do not receive a LICU designation may provide information to the regional director to demonstrate they meet the criteria.

Written Notification to Regional Director:

Respondents: Federal credit unions that wish to receive a low-income credit union designation after the regional director notifies them they qualify.

Estimated Number of Respondents/Recordkeepers: 1,087.

Estimated Burden Hours per Response: .5 hours.

Frequency of Response: Every 18-24 months.

Estimated Total Annual Burden Hours: 543.5 hours.

Estimated Total Annual Cost: 0.

Voluntary Submission to Regional Director Demonstrating LICU Qualification Respondents: Federal credit unions that have not been notified they qualify by the regional director, but wish to receive a low-income credit union designation.

Estimated Number of Respondents/Recordkeepers: 5.

Estimated Burden Hours per Response: 20 hours.

Frequency of Response: As determined by FCUs.

Estimated Total Annual Burden Hours: 100 hours.

Estimated Total Annual Cost: 0.

Additionally, NCUA estimates the new provisions will require a one-time training burden of one hour for approximately 1,092 credit unions, for a total one-time burden of 1,092 hours.

By the National Credit Union Administration Board on November 20, 2008.
Mary F. Rupp,
Secretary of the Board.

[FR Doc. E8-28077 Filed 11-25-08; 8:45 am]

BILLING CODE 7535-01-P